UNITED STATES INSTITUTE OF PEACE

Sunshine Act Meeting

AGENCY: United States Institute of Peace.

DATE/TIME: Thursday—June 20, 2002 (10 a.m.-5 p.m.) Friday—June 21, 2002 (9:30 a.m.-4 p.m.).

LOCATION: National Defense University, National War College, Bldg. 61, Roosevelt Hall, Hill Conference Room, Ft. McNair, 300 5th Avenue, Washington, DC.

STATUS: Open Session—Portions may be closed pursuant to Subsection (c) of Section 552(b) of Title 5, United States Code, as provided in subsection 1706(h)(3) of the United States Institute of Peace Act, Public Law 98-525.

AGENDA: June 2002 Board Meeting; Approval of Minutes of the One Hundred Fourth Meeting (March 21, 2002) of the Board of Directors; Chairman's Report; President's Report; Review, Discussion and Approval of Solicited Topics for Grants; Discussion of Education Program—Consideration of a Master's Level Degree Granting Program; Fellows Report; Selection of National Peace Essay Contest Winners; Committee Reports; Discussion of the Special Initiative on the Muslim World; Review Plans for Research and Studies Program; Other General Issues.

CONTACT: Mr. John Brinkley, Director, Office of Public Outreach, Telephone: (202) 457-1700.

Dated: May 31, 2002.
Harriet Hentges,
Executive Vice President, United States Institute of Peace.

[FR Doc. 02-14293 Filed 6-3-02; 4:50 pm]

BILLING CODE 6820-AR-M